DEPARTMENT OF HEALTH AND HUMAN SERVICES

Substance Abuse and Mental Health Services

Center for Substance Abuse Prevention; Notice of Cancellation of Meeting

Pursuant to Public Law 92-462, notice is hereby given of a cancellation of the February 10, 2010 meeting of the Substance Abuse and Mental Health Services Administration (SAMHSA) Center for Substance Abuse Prevention (CSAP) National Advisory Council.

Public notice was given in the Federal Register on January 28, 2010 (Volume 75, Number 18, and Page 4755) that the CSAP National Advisory Council would be meeting on February 10, 2010, at the Gaylord Convention Center in National Harbor, Maryland. The meeting was canceled due to hazardous weather conditions and closure of the Federal government. An alternate date, time and location for the meeting will be announced in the Federal Register as soon as arrangements have been made.

Members of the public wishing further information concerning this cancellation notice or any future meetings of the Center for Substance Abuse Prevention National Advisory Council should contact the Designated Federal Official, Tia Haynes, 1 Choke Cherry Road, Room 4-1066, Rockville, MD 20857, Telephone: 240-276-2436, FAX: 240-276-2430, and E-mail: tia.haynes@samhsa.hhs.gov.

Toian Vaughn,
Committee Management Officer, Substance Abuse and Mental Health Services Administration.

[FR Doc. 2010-3903 Filed 2-25-10; 8:45 am]

BILLING CODE 4162-20-P